DEPARTMENT OF ENERGY

Federal Energy Regulatory Commission

[ Project No. 12778-004]

Fall Creek Hydro, LLC, Oregon; Notice of Availability of Draft Environmental Assessment

In accordance with the National Environmental Policy Act of 1969 and the Federal Energy Regulatory Commission's (Commission or FERC's) regulations, 18 Code of Federal Regulations (CFR) Part 380 (Order No. 486, 52 FR 47,897), the Office of Energy Projects has reviewed the application for an original license to construct the Fall Creek Dam Hydroelectric Project and has prepared a draft environmental assessment (EA). The proposed 10-megawatt project would be located on Fall Creek in Lane County, Oregon, near the towns of Springfield and Eugene, at an existing dam operated by the U.S. Army Corps of Engineers. The proposed project, if licensed, would occupy a total of 6.53 acres of federal land.

The draft EA includes the staff's analysis of the potential environmental effects of licensing the project and concludes that licensing the project, with appropriate protective measures, would not constitute a major federal action significantly affecting the quality of the human environment.

A copy of the draft EA is available for review at the Commission in the Public Reference Room or may be viewed on the Commission's Web site at www.ferc.gov using the “eLibrary” link. Enter the docket number, excluding the last three digits, in the docket number field to access the document. For assistance, contact FERC Online Support at FERCOnlineSupport@ferc.gov or toll-free number at 1-866-208-3676, or for TTY, 202-502-8659.

You may also register online at www.ferc.gov/docs-filing/esubscription.asp to be notified via email of new filings and issuances related to this or other pending projects. For assistance, contact FERC Online Support.

Any comments should be filed within 30 days from the date of this notice. Comments may be filed electronically via the Internet. See 18 CFR 385.2001(a)(1)(iii) and the instructions on the Commission's web site http://www.ferc.gov/doc-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street NE., Washington, DC 20426. Please affix “Fall Creek Dam Hydroelectric Project, Project No. 12778-004” to all comments.

Please contact Lee Emery by telephone at (202) 502-8379 or by email at lee.emery@ferc.gov, if you have any questions.

Dated: March 12, 2013.
Kimberly D. Bose,
Secretary.

[FR Doc. 2013-06202 Filed 3-18-13; 8:45 am]

BILLING CODE 6717-01-P